FEDERAL COMMUNICATIONS COMMISSION

47 CFR Part 90

[PS Docket 12-94; PS Docket No. 06-229; WT Docket 06-150; DA 12-1462]

Implementing Public Safety Broadband Provisions of the Middle Class Tax Relief and Job Creation Act of 2012

AGENCY: Federal Communications Commission.

ACTION: Final rule; announcement of effective date.

SUMMARY: On October 15, 2012, the Public Safety and Homeland Security Bureau (Bureau) of the Commission published a document announcing that a Report and Order implementing public safety broadband provisions of the Middle Class Tax Relief and Job Creation Act of 2012, adopted as DA 12-1462, would become effective November 14, 2012, except for the removal of certain sections. The Bureau explained that it would publish a separate document in the Federal Register announcing the subsequent effective date of the removal of these two rule provisions. In this document we announce the effective date of the removal of these two rule provisions.

DATES: The amendments removing 47 CFR 90.18 and 90.528, published October 15, 2012, at 77 FR 62461, are effective November 15, 2012.

FOR FURTHER INFORMATION CONTACT: Gene Fullano, Federal Communications Commission, Public Safety and Homeland Security Bureau, 445 12th Street SW., Room 7-C747, Washington, DC 20554. Telephone: (202)-418-0492, email: genaro.fullano@fcc.gov.

SUPPLEMENTARY INFORMATION: On October 15, 2012, the Public Safety and Homeland Security Bureau (Bureau) of the Commission published a document announcing that the Report and Order adopted in PS Dockets 06-229 and 12-94 and WT Docket 06-150 on September 7, 2012, DA 12-1462, would become effective November 14, 2012, except for the removal of §§ 90.18 and 90.528.

In this document we announce the effective date of the removal of these two rule provisions, November 15, 2012. This date will be the date of issuance of a license to the First Responder Network Authority (FirstNet) pursuant to Section 6201(a) of the Middle Class Tax Relief and Job Creation Act of 2012.

List of Subjects in 47 CFR Part 90

Administrative practice and procedure, Business and industry, Civil defense, Common carriers, Communications equipment, Emergency medical services, Incorporation by reference, Individuals with disabilities, Radio, Reporting and recordkeeping requirements.

Federal Communications Commission.
Timothy A. Peterson,
Chief of Staff, Public Safety and Homeland Security Bureau.

For the reasons discussed in the preamble, the amendments removing 47 CFR 90.18 and 90.528, published October 15, 2012, at 77 FR 62461 are effective November 15, 2012.

[FR Doc. 2012-27912 Filed 11-14-12; 8:45 am]

BILLING CODE 6712-01-P